DEPARTMENT OF COMMERCE

International Trade Administration

[C-533-839]

Carbazole Violet Pigment 23 From India: Final Results of Countervailing Duty New Shipper Review; 2022

AGENCY: Enforcement and Compliance, International Trade Administration, Department of Commerce.

SUMMARY: The U.S. Department of Commerce (Commerce) has conducted a new shipper review (NSR) of Sudarshan Chemical Industries Limited (Sudarshan) regarding the countervailing duty order on carbazole violet pigment 23 (CVP-23) from India. The period of review (POR) is January 1, 2022, through December 31, 2022. Based on our analysis, we continue to find that countervailable subsidies were provided to Sudarshan with the respect to the production of CVP-23 from India during the POR.

DATES: Applicable October 31, 2024.

FOR FURTHER INFORMATION CONTACT: Gene H. Calvert, AD/CVD Operations, Office VII, Enforcement and Compliance, International Trade Administration, U.S. Department of Commerce, 1401 Constitution Avenue NW, Washington, DC 20230; telephone: (202) 482-3586.

SUPPLEMENTARY INFORMATION:

Background

On May 28, 2024, Commerce published the Preliminary Results of this NSR.¹ On July 22, 2024, Commerce tolled certain deadlines in this administrative proceeding by seven days.² On August 16, we extended the deadline for these final results until October 16, 2024.³ Between August 27 and 30, 2024, we conducted verification of Sudarshan's questionnaire responses that were submitted in this NSR.⁴ On September 12, 2024, we established the deadline for the submission of case and rebuttal briefs.⁵ On September 19, 2024, a case brief was timely submitted on behalf of Sudarshan.⁶ No other interested party submitted a case or rebuttal brief. On October 16, 2024, we further extended the deadline for the final results for this NSR to its current deadline of October 24, 2024.⁷ For a description of the events that occurred since the Preliminary Results, see the Issues and Decision Memorandum.⁸

¹ See Carbazole Violet Pigment 23 from India: Preliminary Results of Countervailing Duty New Shipper Review; 2022, 89 FR 46063 (May 28, 2024) (Preliminary Results), and accompanying Preliminary Decision Memorandum.

² See Memorandum, “Tolling of Deadlines for Antidumping and Countervailing Duty Proceedings,” dated July 22, 2024.

³ See Memorandum, “Extension of Deadline for Final Results of Countervailing Duty New Shipper Review,” dated August 16, 2024. This extension of deadline memorandum inadvertently references October 17, 2024, rather than October 16, 2024, as the extended deadline for the final results.

⁴ See Memorandum, “Verification of Questionnaire Responses Submitted by Sudarshan Chemical Industries Limited,” dated September 12, 2024 (Sudarshan's Verification Report).

⁵ See Memorandum, “Briefing Schedule,” dated September 12, 2024.

⁶ See Sudarshan's Letter, “Case Brief,” dated September 19, 2024 (Sudarshan's Case Brief).

⁷ See Memorandum, “Second Extension of Deadline for Final Results of Countervailing Duty New Shipper Review,” dated October 16, 2024.

⁸ See Memorandum, “Issues and Decision Memorandum for the Final Results of New Shipper Review of the Countervailing Duty Order on Carbazole Violet Pigment 23 from India; 2022,” dated concurrently with, and hereby adopted by, this notice (Issues and Decision Memorandum).

Scope of the Order ⁹

⁹ See Notice of Countervailing Duty Order: Carbazole Violet Pigment 23 from India, 69 FR 77995 (December 29, 2004) (Order).

The product covered by the Order is CVP-23 from India. For a full description of the scope of the Order, see the Issues and Decision Memorandum.

Verification

Commerce conducted verification of Sudarshan's questionnaire responses between August 27 and 30, 2024.¹⁰ We used standard verification procedures, including an examination of relevant accounting records and original source documents provided by Sudarshan.

¹⁰ See Sudarshan's Verification Report.

Analysis of Comments Received

All issues raised in Sudarshan's Case Brief are addressed in the Issues and Decision Memorandum.¹¹ A list of the issues addressed is attached in the appendix to this notice. The Issues and Decision Memorandum is a public document and is on file electronically via Enforcement and Compliance's Antidumping and Countervailing Duty Centralized Electronic Service System (ACCESS). ACCESS is available to registered users at https://access.trade.gov. In addition, a complete version of the Issues and Decision Memorandum can be accesses directly at https://access.trade.gov/public/FRNoticesListLayout.aspx.

¹¹ As referenced above, Sudarshan was the only interested party that submitted a case or rebuttal brief.

Changes Since the Preliminary Results

Based on record information, the results of Sudarshan's verification, and comments received from Sudarshan, we made certain changes to the Preliminary Results regarding Sudarshan's subsidy calculation. These changes are explained in the Issues and Decision Memorandum.

Methodology

Commerce conducted this NSR in accordance with section 751(a)(2)(B) of the Tariff Act of 1930, as amended (the Act), and 19 CFR 351.214. For each subsidy program found to be countervailable, Commerce finds there is a subsidy, i.e., a government-provided financial contribution that gives rise to a benefit to the recipient, and that the subsidy is specific.¹² For a full description of the methodology underlying Commerce's conclusions, see the Issues and Decision Memorandum.

¹² See sections 771(5)(B) and (D) of the Act regarding financial contribution; section 771(5)(E) of the Act regarding benefit; and section 771(5A) of the Act regarding specificity.

Final Results of New Shipper Review

As a result of this NSR, Commerce determines that the following net countervailable subsidy rate exists for the period January 1, 2022, through December 31, 2022:

Producer/exporter | Subsidy rate (percent ad valorem)
Sudarshan Chemical Industries Limited | 6.75

Disclosure

Consistent with 19 CFR 351.224(b), Commerce intends to disclose to interested parties the calculations performed in connection with the final results of this NSR within five days of the date of publication of this notice in the Federal Register.

Assessment Rates

Commerce has determined, and U.S. Customs and Border Protection (CBP) shall assess, countervailing duties on all appropriate entries of subject merchandise covered by this NSR.¹³ Commerce intends to issue assessment instructions to CBP no earlier than 35 days after the date of publication of these final results in the Federal Register. If a timely summons is filed at the U.S. Court of International Trade, the assessment instructions will direct CBP not to liquidate relevant entries until the time for parties to file a request for a statutory injunction has expired (i.e., within 90 days of publication).

¹³ See section 751(a)(2)(C) of the Act; and 19 CFR 351.212(b)(1).

Cash Deposit Requirements

In accordance with section 751(a)(2)(C) of the Act, Commerce also intends to instruct CBP to collect cash deposits of estimated countervailing duties in the amount shown above for Sudarshan on shipments of subject merchandise entered, or withdrawn from warehouse, for consumption on or after the date of publication of the final results of this NSR. These cash deposit requirements shall remain in effect until further notice.

Administrative Protective Order (APO)

This notice also serves as a final reminder to parties subject to APO of their responsibility concerning the destruction of proprietary information disclosed under APO in accordance with 19 CFR 351.305(a)(3). Timely written notification of the return or destruction of APO materials or conversion to judicial protective order is hereby requested. Failure to comply with the regulations and the terms of an APO is a sanctionable violation.

Notification to Interested Parties

Commerce is issuing the final results of this NSR and publishing this notice in accordance with sections 751(a)(2)(B) and 777(i)(1) of the Act, and 19 CFR 351.214.

Dated: October 24, 2024.
Ryan Majerus,
Deputy Assistant Secretary for Policy and Negotiations, performing the non-exclusive functions and duties of the Assistant Secretary for Enforcement and Compliance.

Appendix

List of Topics Discussed in the Issues and Decision Memorandum

I. Summary

II. Background

III. Scope of the Order

IV. Subsidies Valuation Information

V. Bona Fide Analysis

VI. Changes Since the Preliminary Results

VII. Analysis of Programs

VIII. Discussion of the Issues

Comment 1: Whether Commerce Should Revise its Preliminary Benefit Calculation Methodology for the Remission of Duties and Taxes on Export Products (RoDTEP) Program

Comment 2: Whether the Electricity Rebate on Excess Consumption Program Is Countervailable

Comment 3: Whether Commerce Should Revise its Preliminary Benefit Calculation Methodology for the Electricity Rebate on Excess Consumption Program

Comment 4: Whether Commerce Should Revise its Preliminary Subsidy Rate Calculation Methodology for the Advance Authorization Program

Comment 5: Whether Commerce Should Rely on Information Received at Verification To Calculate Sudarshan's Benefit for the Duty Drawback Program

Comment 6: Whether the Pre-Shipment Export Financing Program Is Countervailable

IX. Recommendation

[FR Doc. 2024-25342 Filed 10-30-24; 8:45 am]

BILLING CODE 3510-DS-P